DEPARTMENT OF THE INTERIOR

Bureau of Land Management

[CO-05-1220-EB-CO-]

Notice To Establish Special Recreation Permit Application, Renewal and Transfer Fees for Commercial, Competitive, or Organized Group Activities and Events; Colorado

AGENCY: Bureau of Land Management, Colorado State Office.

ACTION: Notice.

SUMMARY: The Colorado State Office of the Bureau of Land Management (BLM) plans to implement Special Recreation Permit (SRP) fees. The fees will establish standard statewide application, transfer, and renewal fees for SRPs. The fees apply to commercial, competitive, or organized group activities and events on BLM lands, and revenues will be used to help offset the cost of processing SRPs. Field offices will also be allowed to keep more revenues that would benefit on-the-ground work, including an increased law enforcement presence, hiring seasonal employees, and site improvements. Currently, there is no statewide SRP fee. This new fee will not affect cost recovery charges when the 50-hour cost recovery threshold is anticipated to be exceeded. The fees are:

• New SRP—$100

• SRP Renewal (re-issuance of expired permits)—$50

• SRP Transfer from one person to another person—$100

These fees do not apply to individual SRPs authorizing use of designated Special Use Areas. Also, no fees are charged for annual operating authorizations.

Future adjustments in the fee amount will be made based on inflation and local market trends. Consultation will be made with Colorado's three Resource Advisory Committees and appropriate public notices will be posted prior to a fee increase.

DATES: The SRP Application Fee Proposal was published in the Federal Register on September 11, 2007, as a proposed supplementary rule. The comment period was open through November 13, 2007. The new fees will go into effect on March 10, 2008.

FOR FURTHER INFORMATION CONTACT: Jack Placchi, Outdoor Recreation Planner, Bureau of Land Management, Colorado State Office, 2850 Youngfield, Lakewood, Colorado 80215, (303) 239-3832.

SUPPLEMENTARY INFORMATION:

Background

All commercial, competitive or organized group activities, special events, and special area use on BLM public lands require a Special Recreation Permit (SRP). The BLM Colorado manages over 800 commercial, competitive, and organized group activity and event SRPs annually.

BLM Colorado is implementing a new SRP application fee for the issuance of new permits, and for the transfer and renewal of existing permits. The new administrative fees are $100 for a new permit, $50 for a permit renewal, and $100 for a permit transfer. The average cost to existing permit holders will be $10 per year, as most permits are renewed every 5 years. This fee does not apply to individual SRPs issued for special area use.

A statewide application fee will make the cost of applying for and receiving a commercial, competitive, or organized group activity and event SRP consistent at all the BLM Colorado field offices..

The fees collected under statewide application will be kept at the site to augment recreation opportunities for the public. Both public and private outfitters will benefit from the fee through the BLM's increased law enforcement capabilities, additional funds for signing and interpretive education, and a greater BLM field presence to control illegal operations on BLM-managed public lands.

Pursuant to 43 CFR 2932.31(d)(1)-(4), and BLM Manual, H-2930-1 Recreation Permit Administration Page 27 paragraph f. (1), the State Director has the authority to set and adjust fees for SRPs. Direction from the BLM's “Priorities for Recreation and Visitor Services (Purple Book), Goal 3: Provide for and Receive Fair Value in Recreation” also encourages the implementation of such fees.

Comments Received on Proposed Supplementary Rule

Only one comment was received regarding the proposed fee. The commenter had two concerns:

1. That the fee should be $250.00

To determine an appropriate fee structure, the BLM interviewed BLM SRP managers across Colorado. Those interviewed included recreation permit and license managers of local and regional recreational programs including Arkansas Headwaters State Recreation Area, Colorado Department of Regulatory Affairs, and Colorado State Parks River Outfitter Licensing Program. The BLM also interviewed the Executive Director of the Colorado Outfitters Association. As a result of these consultations, we believe the proposed fee structure is appropriate.

2. That the BLM not sanction any animal abuse in permitted events

The BLM does not sanction the abuse of animals and complies with all state and Federal laws regarding livestock and other animals. There is no need to change the fee structure based on this comment.

Sally Wisely,
Colorado State Director.

[FR Doc. E8-4604 Filed 3-7-08; 8:45 am]

BILLING CODE 4310-JB-P